DEPARTMENT OF DEFENSE

Department of the Army

Advisory Committee Meeting Notice

AGENCY: U.S. Army Training and Doctrine Command (TRADOC).

ACTION: Notice of meeting.

SUMMARY: In accordance with Section 10 (a)(2) of the Federal Advisory Committee Act (P.L. 92-463), announcement is made of the following meeting:

Name of Committee: Distance Learning/Training Technology Subcommittee of the Army Education Advisory Committee.

Dates: 3-4 May 2000.

Place: University of California at Los Angeles (UCLA).

Time: 0830-1630 on 3 May 2000; 0830-1600 on 4 May 2000.

Proposed Agenda: On May 3rd, Dr. Maha Ashour-Abdalla, Director of Science and Technology for UCLA's Center for Digital Innovation (CDI), will conduct presentations that focus on UCLA's initiatives in interactive education, administration and management of courses, and discussions of future programs planned for the CDI. Updates on The Army Distance Learning Program (TADLP) and discussions of Student Management and Adult Learning will complete the 2 day program.

Purpose of the Meeting: The members will advise the Assistant Deputy Chief of Staff (ADCST), HQ Training and Doctrine Command (TRADOC), on matters pertaining to education and training technologies.

FOR FURTHER INFORMATION CONTACT: All communications regarding this subcommittee should be addressed to Mr. Richard Karpinski, at Commander, Headquarters TRADOC, ATTN: ATTG-CF (Mr. Karpinski), Fort Monroe, VA 23651-5000; telephone number (757) 728-5531.

SUPPLEMENTARY INFORMATION: Meeting of the advisory committee is open to the public. Because of restricted meeting space, attendance will be limited to those persons who have notified the Advisory Committee Management Office in writing at least five days prior to the meeting of their intention to attend. Contact Mr. Karpinski (757-728-5531) for meeting agenda and specific locations.

Any member of the public may file a written statement with the committee before, during, or after the meeting. To the extent that time permits, the committee chairman may allow public presentations or oral statement at the meeting.

Gregory D. Showalter,
Army Federal Register Liaison Officer.

[FR Doc. 00-9694 Filed 4-17-00; 8:45 am]

BILLING CODE 3710-08-P